DEPARTMENT OF HEALTH AND HUMAN SERVICES

Administration for Children and Families

Proposed Information Collection Activity; Information Comparison With Insurance Data

AGENCY: Office of Child Support Services, Administration for Children and Families, Department of Health and Human Services.

ACTION: Request for public comments.

SUMMARY: The Office of Child Support Services (OCSS), Administration for Children and Families (ACF), is requesting the Federal Office of Management and Budget (OMB) to extend approval of the Information Comparison with Insurance Data, with minor changes, for an additional three years. The current OMB approval (OMB No.: 0970-0342) expires January 31, 2024.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION:

Description: The Deficit Reduction Act of 2005 amended section 452 of the Social Security Act to authorize the Health and Human Services Secretary, through the Federal Parent Locator Service, to conduct comparisons of information concerning individuals owing past-due child support with information maintained by insurers (or their agents) concerning insurance claims, settlements, awards, and payments. On a daily basis, OCSS sends the results of the insurance data match in an “Insurance Match Response Record” to child support agencies that use the insurance data matches to collect past-due support from the insurance proceeds. OCSS incorporated a separate burden calculation for respondents opting to electronically report quarterly.

Respondents: Insurers or their agents, including the U.S. Department of Labor and State agencies administering workers' compensation programs, and the Insurance Services Office.

Annual Burden Estimates
Collection instrument | Total number of respondents | Total number of responses per respondent | Average burden hours per response | Total annual burden hours
Insurance Match File: Quarterly Reporting Electronically | 1 | 4 | 0.083 | 0.33
Insurance Match File: Monthly Reporting Electronically | 26 | 12 | 0.083 | 25.90
Insurance Match File: Weekly Reporting Electronically | 19 | 52 | 0.083 | 82.00
Insurance Match File: Daily Reporting Electronically | 1 | 251 | 0.083 | 20.83
Match File: Daily Reporting Manually | 118 | 251 | 0.1 | 2,961.80

Estimated Total Annual Burden Hours: 3,090.86.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(a)(9), 42 U.S.C. 653(a)(1) and 42 U.S.C. 652(m).

Mary B. Jones,
ACF/OPRE Certifying Officer.

[FR Doc. 2023-14339 Filed 7-6-23; 8:45 am]

BILLING CODE 4184-41-P